DEPARTMENT OF LABOR

Employment and Training Administration

[NAFTA-4253]

Homestake Mining Company, Homestake Gold Mine, Lead, South Dakota; Dismissal of Application for Reconsideration

Pursuant to 29 CFR 90.18(C) an application for administrative reconsideration was filed with the Director of the Division of Trade Adjustment Assistance for workers at Homestake Mining Company, Homestake Gold Mine, Lead, South Dakota. The application contained no new substantial information which would bear importantly on the Department's determination. Therefore, dismissal of the application was issued.

NAFTA-4253; Homestake Mining Company, Homestake Gold Mine, Lead, South Dakota (February 22, 2001)

Signed at Washington, DC this 22nd day of February, 2001.
Edward A. Tomchick,
Director, Division of Trade Adjustment Assistance.

[FR Doc. 01-5088 Filed 3-1-01; 8:45 am]

BILLING CODE 4510-30-M